DEPARTMENT OF HEALTH AND HUMAN SERVICES

Office of the Secretary

Promoting the Rule of Law Through Improved Agency Guidance Documents

AGENCY: Office of the Secretary, Department of Health and Human Services.

ACTION: Notice.

SUMMARY: On October 9, 2019, the President issued Executive Order (E.O.) 13891: Promoting the Rule of Law Through Improved Agency Guidance Document. This E.O. requires all Federal Agencies to establish an on-line guidance portal and to rescind any guidance documents that are no longer active or valid.

SUPPLEMENTARY INFORMATION: The Department of Health and Human Services is updating its Notice published on July 2, 2020 regarding Executive Order 13891. In that Notice, HHS made available its guidance portal which included all active guidance documents across HHS's 27 Operating and Staff Divisions. That Notice brought awareness that while many of the Centers for Medicare and Medicaid's (CMS) active guidance documents were included, it was not reflective of CMS's full inventory. OMB had granted CMS an extension until July 31, 2020 to fully populate the database to reflect CMS's full inventory of active guidance documents.

This Notice informs of an additional OMB extension granted to the Centers for Medicare and Medicaid (CMS) until September 30, 2020 to fully populate all of its inventory of active guidance documents.

FOR FURTHER INFORMATION CONTACT: Samuel Shipley, Executive Secretariat, at Guidance@hhs.gov or (202) 690-5627.

Wilma M. Robinson,
Deputy Executive Secretary, Department of Health and Human Services.

[FR Doc. 2020-19568 Filed 9-3-20; 8:45 am]

BILLING CODE 4150-03-P